DEPARTMENT OF HOMELAND SECURITY

Coast Guard

33 CFR Part 117

[Docket No. USCG-2011-0880]

Drawbridge Operation Regulation; Duwamish West Waterway, Seattle, WA

AGENCY: Coast Guard, DHS.

ACTION: Notice of temporary deviation from regulations.

SUMMARY: The Commander, Thirteenth Coast Guard District, has issued a temporary deviation from the regulation governing the operation of the Spokane Street Swing Bridge across the Duwamish West Waterway, mile 0.3, at Seattle, WA. This deviation mitigates the displacement of approximately 110,000 vehicles that may be affected by the Alaska Way Viaduct Tunnel construction, a major infrastructure improvement project. This temporary deviation benefits public health and safety by permitting more vehicle access across the bridge during peak hours. This deviation allows the bridge to remain closed to waterway traffic during weekday afternoon peak traffic times for a five day period.

DATES: This deviation is effective from 3 p.m. October 24, 2011 through 6 p.m. on October 28, 2011.

ADDRESSES: Documents mentioned in this preamble as being available in the docket are part of docket USCG-2011-0880 and are available online by going to http://www.regulations.gov, inserting USCG-2011-0880 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or e-mail the Bridge Administrator, Coast Guard Thirteenth District; telephone 206-220-7282; e-mail randall.d.overton@uscg.mil. If you have questions on viewing the docket, call Renee V. Wright, Program Manager, Docket Operations, telephone 202-366-9826.

SUPPLEMENTARY INFORMATION: The Seattle Department of Transportation has requested that the Spokane Street Swing Bridge not open for waterway traffic, with the exception of deep draft vessels, during afternoon peak traffic hours for a five day period. The Spokane Street Swing Bridge crosses the Duwamish West Waterway at mile 0.3. Extremely heavy roadway traffic is anticipated on the low-level Spokane Street Swing Bridge during scheduled major transportation infrastructure improvements. During this construction activity traffic will be diverted to the low-level Spokane Street Swing Bridge from adjoining roadways. In the closed position, the Spokane Street Swing Bridge provides approximately 44 feet of vertical clearance. Waterborne traffic on this stretch of the Duwamish waterway consists of vessels ranging from small pleasure craft to commercial tug and tow. During the entire month of October last year between 3 p.m. and 6 p.m. the Spokane Street Swing Bridge opened a total of ten times; four of the openings for sailboats and six of the openings for commercial waterway traffic. Under normal operation the bridge opens on signal as required by 33 CFR 117.5. The deviation period is from 3 p.m. October 24 through 6 p.m. October 28, 2011. From October 24, 2011 through and including October 28, 2011, the Spokane Street Swing Bridge across the Duwamish West Waterway, mile 0.3, need not open for waterway traffic from 3 p.m. through 6 p.m. daily. Vessels that do not require a bridge opening will be allowed to pass under the bridge during the closure period. During this authorized closure period the bridge will be required to open for deep draft vessels provided 72 hours advance notification is given. Also during this deviation the bridge will be required to open for federal, state, and local government vessels used for public safety and for vessels in distress where a delay would endanger life or property.

In accordance with 33 CFR 117.35(e), the drawbridge must return to its regular operating schedule immediately at the end of the designated time period. This deviation from the operating regulations is authorized under 33 CFR 117.35.

Dated: September 30, 2011.
K.A. Taylor,
Rear Admiral, U. S. Coast Guard, Commander, Thirteenth Coast Guard District.

[FR Doc. 2011-26536 Filed 10-13-11; 8:45 am]

BILLING CODE 9110-04-P